NATIONAL SCIENCE FOUNDATION

Proposal Review Panel for Materials Research; Notice of Meeting

In accordance with the Federal Advisory Committee Act (Pub. L. 92-463 as amended), the National Science Foundation announces the following meeting:

Name: Site visit review of the Nanoscale Science and Engineering Center (NSEC) at the University of Wisconsin-Madison by the Division of Materials Research (DMR) #1203.

Dates & Times:

May 6, 2012; 4:45 p.m.-8 p.m.

May 7, 2012: 7:45 a.m.-8:30 p.m.

May 8, 2012: 8 a.m.-4:15 p.m.

Place: University of Wisconsin, Madison, WI.

Type of Meeting: Part open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the NSEC at the University of Wisconsin.

Agenda:

Sunday, May 6, 2012

4:45 p.m.-6 p.m. Closed—Executive Session

6 p.m.-8 p.m. Open—Poster session

Monday, May 7, 2012

7:45 a.m.-4:30 p.m. Open—Review of the NSEC

4:30 p.m.-6:15 p.m. Closed—Executive Session

6:15 p.m.-8:30 p.m. Open—Dinner

Tuesday, May 8, 2012

8 a.m.-9 a.m. Closed—Executive session

9 a.m.-10:45 a.m. Open—Review of the NSEC

10:45 a.m.-4:15 p.m. Closed—Executive Session, Draft and Review Report

Reason for Closing: The work being reviewed may include information of a proprietary or confidential nature, including technical information; financial data, such as salaries and personal information concerning individuals associated with the MRSEC. These matters are exempt under 5 U.S.C. 552 b(c), (4) and (6) of the Government in the Sunshine Act.

Dated: April 3, 2012.
Susanne Bolton,
Committee Management Officer.

[FR Doc. 2012-8272 Filed 4-5-12; 8:45 am]

BILLING CODE 7555-01-P